DEPARTMENT OF COMMERCE

International Trade Administration

[A-475 818]

Certain Pasta from Italy: Extension of Time Limits for the Preliminary Results of the Antidumping Duty Administrative Review

EFFECTIVE DATE: May 23, 2006.

AGENCY: Import Administration, International Trade Administration, Department of Commerce.

FOR FURTHER INFORMATION CONTACT: Dennis McClure or Preeti Tolani (202) 482-5973 or (202) 482-0395, respectively, AD/CVD Operations, Office 3, Import Administration, International Trade Administration, U.S. Department of Commerce, 14th Street and Constitution Ave., NW., Washington, DC 20230.

SUPPLEMENTARY INFORMATION:

Background

On August 29, 2005, the U.S. Department of Commerce (“the Department”) published a notice of initiation of the administrative review of the antidumping duty order on certain pasta from Italy, covering the period from July 1, 2004, to June 30, 2005. See Initiation of Antidumping and Countervailing Duty Administrative Reviews and Requests for Revocation in Part, 70 FR 51009 (August 29, 2005). On March 16, 2006, the Department published a notice of extension of time limits for the preliminary results of the administrative review. See Notice of Extension of Time Limits for the Preliminary Results of Antidumping Duty Administrative Review of Certain Pasta from Italy, 71 FR 13584 (March 16, 2006). The preliminary results of this review are currently due no later than May 18, 2006.

Extension of Time Limit of Preliminary Results

Section 751(a)(3)(A) of the Tariff Act of 1930, as amended (“the Act”), requires the Department to make a preliminary determination within 245 days after the last day of the anniversary month of an order or finding for which a review is requested. Consistent with section 751(a)(3)(A) of the Act, the Department may extend the 245-day period to 365 days if it is not practicable to complete the review within a 245-day period.

We determine that completion of the preliminary results of this review by May 18, 2006, is not practicable because additional time is needed by the Department to consider all comments filed by the petitioners and respondents participating in this review, including the comments filed shortly before the May 18, 2006, deadline. In order to analyze necessary additional information, and in accordance with section 751(a)(3)(A) of the Act, we are extending the time period for issuing the preliminary results to the full 365-day period. Therefore, the preliminary results are now due no later than July 31, 2006. The final results continue to be due 120 days after publication of the preliminary results.

This notice is published in accordance with sections 751(a)(3)(A) and 777(I) of the Act.

Dated: May 17, 2006.
Stephen J. Claeys,
Deputy Assistant Secretary for Import Administration.

[FR Doc. E6-7841 Filed 5-22-06; 8:45 am]

BILLING CODE 3510-DS-P